DEPARTMENT OF COMMERCE

International Trade Administration

(A-588-835)

Oil Country Tubular Goods from Japan: Final Results and Rescission of Antidumping Duty Administrative Review

AGENCY: Import Administration, International Trade Administration, U.S. Department of Commerce.

SUMMARY: On May 2, 2007, the Department of Commerce (the Department) published in the Federal Register a notice of intent to rescind the administrative review of the antidumping duty order on Oil Country Tubular Goods (OCTG) from Japan. See Oil Country Tubular Goods from Japan: Preliminary Results of Antidumping Duty Administrative Review and Intent to Rescind Administrative Review, 72 FR 24275 (May 2, 2007) (Preliminary Results). This review covers four manufactures/exporters: JFE Steel Corporation (JFE), Nippon Steel Corporation (Nippon), NKK Tubes (NKK) and Sumitomo Metal Industries, Ltd. (SMI). The period of review (POR) covers sales of subject merchandise to the United States during the period August 1, 2005 through July 31, 2006.

We provided interested parties with an opportunity to comment on the notice of intent to rescind this administrative review. However, we received no comments from interested parties. Consequently, we are rescinding this administrative review.

EFFECTIVE DATE: August 3, 2007.

FOR FURTHER INFORMATION CONTACT: Jun Jack Zhao or Dana Mermelstein, AD/CVD Operations, Office 6, Import Administration, International Trade Administration, U.S. Department of Commerce, 14th Street and Constitution Avenue, NW, Washington, DC 20230; telephone: (202) 482-1396 or (202) 482-1391, respectively.

SUPPLEMENTARY INFORMATION:

Background

On May 2, 2007, the Department published in the Federal Register a notice of intent to rescind the antidumping duty administrative review of the antidumping duty order on OCTG from Japan. No interested parties filed case briefs in response to the Department's invitation to comment on the Preliminary Results.

Scope of the Order

The products covered by this order are OCTG, hollow steel products of circular cross-section, including only oil well casing and tubing, of iron (other than cast iron) or steel (both carbon and alloy), whether seamless or welded, whether or not conforming to American Petroleum Institute (API) or non-API specifications, whether finished or unfinished (including green tubes and limited service OCTG products). This scope does not cover casing, tubing, or drill pipe containing 10.5 percent or more of chromium. The products subject to this order are currently classified in the Harmonized Tariff Schedule of the United States (HTSUS) under sub-headings: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50.

As a result of recent changes to the HTSUS, effective February 2, 2007, the subject merchandise is also classifiable under the following additional HTSUS item numbers: 7304.29.31.10, 7304.29.31.20, 7304.29.31.30, 7304.29.31.40, 7304.29.31.50, 7304.29.31.60, 7304.29.31.80, 7304.29.41.10, 7304.29.41.20, 7304.29.41.30, 7304.29.41.40, 7304.29.41.50, 7304.29.41.60, 7304.29.41.80, 7304.29.61.15, 7304.29.61.30, 7304.29.61.45, 7304.29.61.60, 7304.29.61.75, 7306.29.10.30, 7306.29.10.90, 7306.29.20.00, 7306.29.31.00, 7306.29.41.00, 7306.29.60.10, 7306.29.60.50, 7306.29.81.10, and 7306.29.81.50.

The HTSUS sub-headings are provided for convenience and customs purposes only. The written description of the scope of the order remains dispositive.

Final Results and Rescission of Administrative Review

As stated in the Preliminary Results, the Department determined that all four companies had no reviewable sales of subject merchandise during the POR. Although our review of data from U.S. Customs and Border Protection (CBP) showed that there were entries during the POR of merchandise produced by these companies, based on our analysis of the CBP information and documentation submitted by respondent companies, we determined that those entries were either made by unaffiliated resellers without the knowledge of the respondent companies, or were merchandise out of the scope of antidumping duty order. As such, they are not subject to the administrative review. See memorandum from Jun Jack Zhao, Case Analyst, to Barbara E. Tillman, Director, AD/CVD Operations, Office 6, Analysis Memorandum regarding the Administrative Review of the Antidumping Duty Order on Oil Country Tubular Goods from Japan (A-588-835), dated concurrently with the Preliminary Results. Because we did not receive comments from any of the interested parties on the Preliminary Results, we do not have any reason to reconsider our preliminary decision. Therefore, consistent with the Department's preliminary results of this review, and in accordance with 19 CFR § 351.213(d)(3), we are rescinding the review with respect to all four companies.

Duty Assessment

The Department will determine, and CBP shall assess, antidumping duties on all appropriate entries, pursuant to section 751(a) of the Tariff Act of 1930, as amended (the Act) and 19 CFR § 351.212(b). We will direct CBP to liquidate any entries of subject merchandise manufactured by JFE, Nippon, NKK, SMI, and entered or withdrawn from warehouse for consumption during the POR, at the “all others” rate from the investigation, 44.20 percent, in accordance with the Department's clarification of its “automatic assessment” regulation; the sales of any such entries were made by intermediary companies (e.g., resellers) that do not have their own rates because they were not covered in this review, a prior review, or the less than fair value (LTFV) investigation. See Antidumping and Countervailing Duty Proceedings: Assessment of Antidumping Duties, 68 FR 23954 (May 6, 2003). The Department intends to issue appropriate assessment instructions directly to CBP 15 days after the date of publication of these final results.

Cash Deposit Requirements

On May 31, 2007, the U.S. International Trade Commission determined that revoking the existing antidumping duty orders on imports of OCTG from Argentina, Italy, Japan, Korea and Mexico would be unlikely to lead to continuation or recurrence of material injury. As a result, the Department revoked these antidumping duty orders. See Oil Country Tubular Goods from Argentina, Italy, Japan, Korea, and Mexico; Revocation of Antidumping Duty Orders Pursuant to Second Five-year (Sunset) Reviews, 72 FR 34442 (June 22, 2007). The effective date of the revocation of this order was July 25, 2006. Consequently, the Department has instructed CBP to discontinue the suspension of liquidation of all entries of subject merchandise entered on or after July 25, 2006. Therefore, no further cash deposits of estimated antidumping duties will be required, and antidumping duties will not be assessed on entries after July 24, 2006.

Notification to Importers

This notice serves as a final reminder to importers of their responsibility under 19 CFR § 351.402(f) to file a certificate regarding the reimbursement of antidumping duties prior to liquidation of the relevant entries during this review period. Failure to comply with this requirement could result in the Secretary's presumption that reimbursement of antidumping duties occurred and the subsequent assessment of double antidumping duties.

Administrative Protective Orders

This notice also serves as a reminder to parties subject to administrative protective orders (APOs) of their responsibility concerning the return or destruction of proprietary information disclosed under APO in accordance with 19 CFR § 351.305. Timely written notification of the return/destruction of APO materials or conversion to judicial protective order is hereby requested. Failure to comply with the regulations and terms of an APO is a violation that is subject to sanction.

This administrative review and notice are issued and published in accordance with sections 751(a)(1) and 777(i)(1) of the Act.

Dated: July 27, 2007.
David M. Spooner,
Assistant Secretary for Import Administration.

[FR Doc. E7-15158 Filed 8-2-07; 8:45 am]

BILLING CODE 3510-DS-S